ENVIRONMENTAL PROTECTION AGENCY

[ER-FRL-6687-5]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 6, 2007 (72 FR 17156).

Draft EISs

EIS No. 20070116, ERP No. D-AFS-J65478-00, Norwood Project, Proposes to Implement Multiple Resource Management Actions, Black Hills National Forest, Hell Canyon Ranger District, Pennington County, SD and Weston and Crook Counties, WY.

Summary: EPA expressed environmental concerns about impacts to water quality, impacts to wetlands, impacts from noxious and invasive weeds, and impacts to wildlife habitat. Also, the final EIS should include information about future interactions with the soon to be completed cellulosic ethanol plant.

Rating EC2.

EIS No. 20070119, ERP No. D-NOA-L02034-AK, PROGRAMMATIC—Outer Continental Shelf Seismic Surveys in the Beaufort and Chukchi Seas, Proposed Offshore Oil and Gas Seismic Survey, AK.

Summary: EPA expressed environmental concerns about the uncertainties presented in the document that do not provide support for many of the documents alternatives and conclusions. EPA also requested that the cumulative effects analysis be expanded.

Rating EC2.

EIS No. 20070122, ERP No. D-BLM-J03020-00, Overland Pass Natural Gas Liquids Pipeline Project (OPP), Construction and Operation of 760 Mile Natural Gas Liquids Pipeline, Right-of-Way Grant, KS, WY and CO.

Summary: EPA expressed environmental concerns about potential impacts to river and stream water quality. EPA requested additional analysis of water quality impacts and mitigation measures.

Rating EC2.

EIS No. 20070154, ERP No. D-NOA-E91018-00, Amendment 27 to the Reef Fish Fishery Management Plan and Amendment 14 to the Shrimp Fishery Management Plan, To Address Stock Rebuilding and Overfishing of Red Snapper, Gulf of Mexico.

Summary: EPA does not object to the proposed actions.

Rating LO.

EIS No. 20070140, ERP No. DR-NOA-A91073-00, PROGRAMMATIC—Toward an Ecosystem Approach for the Western Pacific Region: From Species-Based Fishery Management Plans to Place-Based Fishery Ecosystem Plans, Bottomfish and Seamount Groundfish, Coral Reef Ecosystems, Crustaceans, Precious Corals, Pelagics, Implementation, American Samoa, Commonwealth of the Northern Mariana Islands, Hawaii, U.S. Pacific Remote Island Area.

Summary: EPA expressed a lack of objections to the proposed action.

Rating LO.

Final EISs

EIS No. 20070164, ERP No. F-AFS-J65440-MT, Northeast Yaak Project, Additional Documentation of Cumulative Effects Analysis, Proposed Harvest to Reduce Fuels in Old Growth, Implementation, Kootenai National Forest, Three Rivers Ranger District, Lincoln County, MT.

Summary: EPA continues to express concern about impacts to wildlife habitat.

Dated: May 29, 2007.
Ken Mittelholtz,
Environmental Protection Specialist, Office of Federal Activities.

[FR Doc. E7-10600 Filed 5-31-07; 8:45 am]

BILLING CODE 6560-50-P